DEPARTMENT OF TRANSPORTATION

Federal Aviation Administration

Planned Establishment of the Raleigh-Durham International Airport Class B Airspace Area, NC; and Revocation of the Raleigh-Durham International Airport Class C Airspace Area, NC

AGENCY: Federal Aviation Administration (FAA), DOT.

ACTION: Notice of public meetings.

SUMMARY: This notice announces two fact-finding informal airspace meetings to solicit information from airspace users, and others, concerning a plan to establish a Class B airspace area at the Raleigh-Durham International Airport, NC. The purpose of these meetings is to provide interested parties an opportunity to present views, recommendations, and comments on the plan to establish the Raleigh-Durham, NC, Class B airspace area. All comments received during these meetings will be considered prior to any revision or issuance of a notice of proposed rulemaking.

TIMES AND DATES: Meetings. These informal airspace meetings will be held on Tuesday, December 4, 2001, at 7 p.m.; and Wednesday, December 5, 2001, at 7 p.m. Comments must be received on or before January 4, 2002.

ADDRESSES: Both meetings will be held at the Raleigh-Durham Airport Authority, Room 100, 1000 Trade Drive, at the Raleigh-Durham International Airport, NC.

Comments: Send comments on the proposal in triplicate to: Manager, Air Traffic Division, ASO-500, Federal Aviation Administration, P.O. Box 20636, Atlanta, GA 30320.

FOR FURTHER INFORMATION CONTACT: Richard A. Belmonte, Manager, Raleigh-Durham Airport Traffic Control Tower, Raleigh-Durham International Airport, 1000 Sawyer Circle, Raleigh, NC 27623; telephone (919) 840-5502.

SUPPLEMENTARY INFORMATION:

Meeting Procedures

(a) These meetings will be informal in nature and will be conducted by one or more representatives of the FAA Southern Region. A representative from the FAA will present a formal briefing on the proposed Class B airspace area. Each participant will be given an opportunity to deliver comments or make a presentation at the meetings. Only comments concerning the proposal to establish a Class B airspace area will be accepted.

(b) These meetings will be open to all persons on a space-available basis. There will be no admission fee or other charge to attend and participate.

(c) Any person wishing to make a presentation to the FAA panel will be asked to sign in and estimate the amount of time needed for such presentation. This will permit the panel to allocate an appropriate amount of time for each presenter.

(d) These meetings will not be adjourned until everyone on the list has had an opportunity to address the panel.

(e) Position papers or other handout material relating to the substance of these meetings will be accepted. Participants wishing to submit handout material should present three copies to the presiding officer. There should be additional copies of each handout available for other attendees.

(f) These meetings will not be formally recorded.

Agenda for the Meetings

—Presentation of Meeting Procedures.

—Presentation on the planned Class B airspace area at Raleight-Durham, NC.

—Public Presentations and Discussions.

—Closing Comments.

Issued in Washington, DC, on September 24, 2001.
Reginald C. Matthews,
Manager, Airspace and Rules Division.

[FR Doc. 01-24428 Filed 9-27-01; 8:45 am]

BILLING CODE 4910-13-P